DEPARTMENT OF HEALTH AND HUMAN SERVICES

Food and Drug Administration

21 CFR Parts 610 and 680

[Docket No. FDA-2014-N-1110]

Revocation of General Safety Test Regulations That Are Duplicative of Requirements in Biologics License Applications; Correction

AGENCY: Food and Drug Administration, HHS.

ACTION: Proposed rule; correction.

SUMMARY: The Food and Drug Administration is correcting a proposed rule entitled “Revocation of General Safety Test Regulations That Are Duplicative of Requirements in Biological License Applications” that appeared in the Federal Register of August, 22, 2014. The document proposed to amend the biologics regulations by removing the general safety test requirements for biological products. The document published with the incorrect title. This document corrects that error.

FOR FURTHER INFORMATION CONTACT: Lori J. Churchyard, Center for Biologics Evaluation and Research, Food and Drug Administration, 10903 New Hampshire Ave., Bldg. 71, Rm. 7301, Silver Spring, MD 20993-0002, 240-402-7911.

SUPPLEMENTARY INFORMATION: In the Federal Register of August 22, 2014, in FR Doc. 2014-19888, on page 49727, the following correction is made:

1. On page 49727, in the third column, in the heading of the document, “Revocation of General Safety Test Regulations That Are Duplicative of Requirements in Biological License Applications” is corrected to read “Revocation of General Safety Test Regulations That Are Duplicative of Requirements in Biologics License Applications”.

Dated: September 3, 2014.
Leslie Kux,
Assistant Commissioner for Policy.

[FR Doc. 2014-21481 Filed 9-9-14; 8:45 am]

BILLING CODE 4164-01-P